DEPARTMENT OF HEALTH AND HUMAN SERVICES

Health Resources and Services Administration

Agency Information Collection Activities: Submission to OMB for Review and Approval; Public Comment; Information Collection Request Title: Ryan White HIV/AIDS Program: Allocation and Expenditure Forms, OMB No. 0915-0318—Revision

AGENCY: Health Resources and Services Administration (HRSA), Department of Health and Human Services.

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30 day comment period for this notice has closed.

DATES: Comments on this ICR should be received no later than July 27, 2020.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Lisa Wright-Solomon, the HRSA Information Collection Clearance Officer at paperwork@hrsa.gov or call (301) 443-1984.

SUPPLEMENTARY INFORMATION: Information Collection Request Title: Ryan White HIV/AIDS Program: Allocation and Expenditure Forms, OMB No. 0915-0318—Revision.

Abstract: HRSA's HIV/AIDS Bureau administers the Ryan White HIV/AIDS Program (RWHAP) authorized under Title XXVI of the Public Health Service Act as amended by the Ryan White HIV/AIDS Treatment Extension Act of 2009. RWHAP Allocation and Expenditure Reports (A&E Reports), in conjunction with the Consolidated List of Contractors (CLC), will allow HRSA to monitor and track the use of grant funds for compliance with program and grants policies and requirements as outlined in the 2009 legislation. To avoid duplication and reduce recipient reporting burden, HRSA created an electronic grantee contract management system (GCMS) that includes data required for various reports, including the Allocations Reports, the CLC and other HRSA data reports, such as the RWHAP Services Report. Recipients can access GCMS year-round to upload or manually enter data on their service provider contractors and subrecipients, the RWHAP core medical and support services provided, and their funding amounts. GCMS automatically repopulates the data required for the Allocations Reports and other reports. Expenditures Report data are not auto-populated in the GCMS, and are thus still manually reported in the data reporting system.

Allocations and Expenditures (A&E) Reports

Recipients funded under RWHAP Parts A, B, C, and D are required to report financial data to HRSA at the beginning (Allocations Report) and at the end of their grant budget period (Expenditures Report). The A&E Reports request information recipients already collect, including the use of RWHAP grant funds for core medical and support services and for various program components, such as administration, planning and evaluation, and clinical quality management. The reports are identical in content; however, in the first report recipients document the allocation of their RWHAP grant award at the beginning of their grant budget period, and in the second report recipients document actual expenditures of their RWHAP grant award (including any carryover dollars) at the end of their grant budget period.

HRSA is proposing that RWHAP Parts A and B recipients funded under the Ending the HIV Epidemic Initiative (EHE)—a new funding source to implement four key strategies (diagnose, treat, prevent, and respond) to end the HIV epidemic—be required to report EHE service allocations and corresponding EHE award expenditures in the A&E Reports.¹ This addition allows HRSA to track and report progress toward meeting the EHE goals.

¹ OMB granted HRSA approval to collect these data under OMB Control Number 0915-0318, ICR Reference Number 201909-0915-004.

In addition to this substantive modification, minor changes are proposed to (1) the layout of the A&E Reports that affects how already required data is reported; (2) align service categories with HRSA Policy Clarification Notice #16-02: RWHAP Services: Eligible Individuals & Allowable Uses of Funds, updated October 22, 2019; and (3) add clarity to language used.

Consolidated List of Contractors

Recipients funded under RWHAP Parts A and B are required to report information about their service provider contracts or sub awards in the CLC, a report that is generated from data entered through other systems. The CLC form identifies a recipient's contracts with service providers for the current grant year, the contract amount, the types of services the service provider provided, and the service provider's status as a minority or faith-based provider. HRSA is not proposing any changes to the CLC.

A 60-day notice published in the Federal Register on February 11, 2020, vol. 85, No. 28; pp. 7763-64. There was one public comment. Based on the commenter's concern about increasing recipients reporting burden, HRSA removed a request to require RWHAP Parts A and B recipients to report program income and pharmaceutical rebates information in their expenditures report.

Need and Proposed Use of the Information: Accurate allocation, expenditure, and service contract records of the recipients receiving Ryan White HIV/AIDS Program funding are critical to the implementation of the RWHAP legislation and thus are necessary for HRSA to fulfill its responsibilities.

The primary purposes of these forms are to provide information on the number of grant dollars spent on various services and program components and oversee compliance with the intent of Congressional appropriations in a timely manner. In addition to meeting the goal of accountability to Congress, RWHAP clients, advocacy groups, and the general public, information collected through these reports is critical for HRSA, state, and local grant recipients, and individual providers to evaluate the effectiveness of the RWHAP. The addition of EHE funding to the A&E Reports will allow HRSA the ability to assess progress toward meeting the national goals for ending the HIV epidemic.

Likely Respondents: RWHAP Part A, Part B, Part C, and Part D recipients.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Part A Allocations Report | 52 | 1 | 52 | 4 | 208
Part A Expenditures Report | 52 | 1 | 52 | 4 | 208
Part A CLC | 52 | 1 | 52 | 2 | 104
Part B Allocations Report | 54 | 1 | 54 | 6 | 324
Part B Expenditures Report | 54 | 1 | 54 | 6 | 324
Part B CLC | 54 | 1 | 54 | 2 | 108
Part C Allocations Report | 346 | 1 | 346 | 4 | 1,384
Part C Expenditures Report | 346 | 1 | 346 | 4 | 1,384
Part D Allocations Report | 116 | 1 | 116 | 4 | 464
Part D Expenditures Report | 116 | 1 | 116 | 4 | 464
EHE Allocations Report | 47 | 1 | 47 | 4 | 188
EHE Expenditures Report | 47 | 1 | 47 | 4 | 188
Total | 1,336 |  | 1,336 |  | 5,348

Maria G. Button,
Director, Executive Secretariat.

[FR Doc. 2020-13794 Filed 6-25-20; 8:45 am]

BILLING CODE 4165-15-P